DEPARTMENT OF ENERGY

Federal Energy Regulatory Commission

[Project No. 2425-057]

PE Hydro Generation, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2425-057.

c. Date filed: January 3, 2022.

d. Applicant: PE Hydro Generation, LLC.

e. Name of Project: Luray and Newport Hydroelectric Project (P-2425-057).

f. Location: The two-development Luray and Newport Project is located on the South Fork of the Shenandoah River near the Towns of Luray (Luray Development) and Newport (Newport Development) in Page County, Virginia. The project does not occupy any federal land.

g. Filed Pursuant to: Federal Power Act 16 U.S.C. 791(a)-825(r).

h. Applicant Contact: Ms. Jody Smet, Vice President, Regulatory Affairs, PE Hydro Generation, LLC, 7315 Wisconsin Ave., Suite 1100W, Bethesda, MD 20814; Phone at (240) 482-2700 or email at jody.smet@eaglecreekre.com.

i. FERC Contact: Jody Callihan at (202) 502-8278, or jody.callihan@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 4, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Luray and Newport Project (P-2425-057).

m. The application is not ready for environmental analysis at this time.

n. The Luray Development consists of: (1) A 21.9-foot-high, 525-foot-long reinforced concrete dam impounding a small reservoir with a gross storage capacity of 880 acre-feet; (2) a powerhouse adjacent to the south end of the dam, with three generating units having a total installed capacity of 1,600 kilowatts (kW); (3) transmission facilities consisting of the 2.4-kilovolt (kV) project generator leads; a 3-phase, 2.4/34.5-kV transformer; and a 34.5-kV, 8,131-foot-long transmission line; and (4) other appurtenances.

The Newport Development consists of: (1) A 28.8-foot-high, 443-foot-long reinforced concrete dam impounding a small reservoir with a gross storage capacity of 1,090 acre-feet; (2) a powerhouse adjacent to the north end of the dam, with three generating units having a total installed capacity of 1,400 kW; (3) transmission facilities consisting of the 2.4-kV project generator leads; a 3-phase, 2.4/34.5-kV transformer; and a 34.5-kV, 8,131-foot-long transmission line; and (4) other appurtenances.

The project operates in a run-of-river mode with minimum flows of 47 cubic feet per second (cfs) and 40 cfs, at the Luray and Newport Developments, respectively. The project had an average annual generation of 10,928 megawatt-hours between 2011 and 2016.

o. Copies of the application may be viewed on the Commission's website at http://www.ferc.gov using the “eLibrary” link. Enter the docket number excluding the last three digits in the docket number field to access the document (P-2425). For assistance, contact FERC Online Support at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) | March 2022.
Request Additional Information (if necessary) | March 2022.
Issue Acceptance Letter | May 2022.
Issue Scoping Document 1 for comments | June 2022.
Issue Scoping Document 2 (if necessary) | August 2022.
Issue Notice of Ready for Environmental Analysis | August 2022.

Final amendments to the application must be filed with the Commission no later than 30 days from the issuance date of the notice of ready for environmental analysis.

Dated: January 18, 2022.
Kimberly D. Bose,
Secretary.

[FR Doc. 2022-01323 Filed 1-24-22; 8:45 am]

BILLING CODE 6717-01-P